DEPARTMENT OF ENERGY

Federal Energy Regulatory Commission

[Project No. 15045-002; Project No. 15230-002]

Current Hydro Project 19, LLC, Pike Island Hydropower Corporation; Notice of Scoping Meetings

a. Project Names and Numbers:

P-15045-002—New Cumberland Hydroelectric Project

P-15230-002—Pike Island Hydroelectric Project

b. Applicants:

Current Hydro Project 19, LLC for P-15045-002

Pike Island Hydropower Corporation for P-15230-002

c. Date and Time of Meetings:

Daytime Scoping Meeting

Date: May 6, 2025.

Time: 9 a.m. eastern daylight time (EDT) to 11 a.m. EDT.

Location: Wingate by Wyndham, 820 University Blvd., Steubenville, Ohio 43952.

Evening Scoping Meeting

Date: May 6, 2025.

Time: 5 p.m. EDT to 7 p.m. EDT.

Location: Wingate by Wyndham, 820 University Blvd., Steubenville, Ohio 43952.

Please note, Commission staff may conclude the meetings a half hour earlier than the scheduled time.

d. FERC Contact: Colleen Corballis, Project Coordinator, (202) 502-8598, colleen.corballis@ferc.gov.

e. Purpose of the Meeting: Commission staff will hold two joint public scoping meetings for the Pike Island Hydroelectric Project and the New Cumberland Hydroelectric Project. On March 31, 2025, the Commission issued a “Notice of Scoping Meetings and Environmental Site Review and Soliciting Scoping Comments,” (Notice) and a “Scoping Document 1 for the New Cumberland Hydroelectric Project, P-15045-002 and Pike Island Hydroelectric Project, P-15230-002,” (SD1). The Notice and SD1 did not include a location for the scoping meetings; this notice provides the location for both meetings. Additional information concerning scoping, the scoping meetings and site visit is available in the Notice and SD1.

Dated: April 14, 2025.
Debbie-Anne A. Reese,
Secretary.

[FR Doc. 2025-06738 Filed 4-17-25; 8:45 am]

BILLING CODE 6717-01-P